DEPARTMENT OF THE TREASURY

Internal Revenue Service

[Delegation Order No. 05 (Rev. 18)]

Delegation of Authority

AGENCY: Internal Revenue Service (IRS), Treasury.

ACTION: Delegation of authority.

SUMMARY: The specific order of succession and designation to act as Commissioner of Internal Revenue Service. The text of the delegation order appears below.

FOR FURTHER INFORMATION CONTACT: Joann L. Buck, Chief of Staff, Room 3310, 1111 Constitution Avenue, NW., Washington, DC 20037, (202) 622-1320 (not a toll-free call).

Delegation of Authority

[Order Number 05 (Rev. 18)]

Effective Date: October 2, 2000.

Order of Succession and Designation

To Act as Commissioner of Internal Revenue

Authority: To act as and to perform the functions of the Commissioner of Internal Revenue in the event of an enemy attack on the United States, the disability of the Commissioner, his/her absence from the main Treasury relocation Site, or if there is a vacancy in the office, thus insuring the continuity of the functions of the office.

Delegated to: The following officials in the specific sequence listed:

Deputy Commissioner

Assistant Deputy Commissioner (Operations)

Assistant Deputy Commissioner (Modernization)

Chief, Communications and Liaison

Commissioner, Small Business/Self-Employed Division

Commissioner, Wage and Investment Division

Commissioner, Tax Exempt/Government Entities Division

Commissioner, Large/Mid-Size Business Division

Deputy Commissioner, Small Business/Self-Employed Division

Deputy Commissioner, Wage and Investment Division

Deputy Commissioner, Tax Exempt/Government Entities Division

Deputy Commissioner, Large/Mid-Size Business Division

Chief, Agency-Wide Shared Services

Chief, Appeals

Chief, Criminal Investigation

Chief Information Officer

Redelegation: In the absence of these officials, the first available Compliance Director.

Sources of Authority: Treasury Order 150-10, Treasury Order 150-25.

This Order supersedes Delegation Order No. 5 (Rev. 17), effective October 15, 1999.

Dated: October 4, 2000.
Charles O. Rossotti,
Commissioner of Internal Revenue.

[FR Doc. 00-28526 Filed 11-6-00; 8:45 am]

BILLING CODE 4830-01-P